DEPARTMENT OF THE INTERIOR

Geological Survey

[GX24GK009970000]

Agency Information Collection Activities; Landslide Hazards Risk Reduction Grants Program

AGENCY: U.S. Geological Survey (USGS), Department of the Interior.

ACTION: Notice of information collection; request for comment.

SUMMARY: In accordance with the Paperwork Reduction Act of 1995 (PRA), the USGS is proposing a new information collection.

DATES: Interested persons are invited to submit comments on or before March 11, 2024.

ADDRESSES: Written comments and recommendations for the proposed information collection should be sent within 30 days of publication of this notice to www.reginfo.gov/public/do/PRAMain. Find this particular information collection request (ICR) by selecting “Currently under Review—Open for Public Comments” or by using the search function. Please provide a copy of your comments by mail to USGS, Information Collections Clearance Officer, 12201 Sunrise Valley Drive, MS 159, Reston, VA 20192 or by email to gs-info_collections@usgs.gov. Please reference OMB Control Number 1028-NEW Landslide Hazards in the subject line of your comments.

FOR FURTHER INFORMATION CONTACT: To request additional information about this ICR, contact Stephen Slaughter by email at sslaughter@usgs.gov, or by telephone at 720-483-3945. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA (44 U.S.C. 3501 et seq.) and 5 CFR 1320.8(d)(1), we provide the general public and other federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on 09/11/2023, 88 FR 62389. No comments were received.

As part of our continuing effort to reduce paperwork and respondent burdens, we are again soliciting comments from the public and other federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: USGS Cooperative Landslide Hazard Mapping and Assessment Program priorities reflect the National Landslide Preparedness Act (Pub. L. 116-323), which supports the mission of the USGS Landslide Hazards Program to reduce loss of lives and property from landslides and improve public safety and community resilience for the Nation. Proposed risk-reduction activities should advance landslide science and communication that underlie the priorities of the National Landslide Preparedness Act by focusing on landslide hazard planning, coordination, mapping, assessments, education, and outreach. The objectives are to provide grants on a competitive basis to state, territorial, local, and Tribal governments to research, map, assess, and collect data on landslide hazards within the jurisdictions of those governments. In response to our program announcements, applicants submit proposals in priority areas including (a) advancing landslide hazard mapping and assessments; (b) improving landslide hazard planning and coordination; and (c) improving the dissemination of landslide hazard information and its effectiveness in mitigating losses. This information is used as the basis for selection and award of projects meeting USGS Cooperative Landslide Hazard Mapping and Assessment Program priorities. Final grant close-out narrative reports are required for each funded proposal. Annual progress reports are required for awards that span more than two years. Final grant close-out narrative reports are made available to the public at https://www.usgs.gov/programs/landslide-hazards/science/external-grants-overview.

Title of Collection: Landslide Hazards Risk Reduction Grants Program.

OMB Control Number: 1028-NEW.

Form Number: None.

Respondents/Affected Public: state, territorial, local, and tribal governments.

Total Estimated Number of Annual Respondents: The USGS estimates that 30 respondents will read the program announcement, 10 respondents will submit applications, and 10 respondents will submit semi-annual progress reports and a final technical report.

Total Estimated Number of Annual Responses: 10 applications; 10 semi-annual progress reports, and 10 final technical reports.

Estimated Completion Time per Response: Read program announcement: 1 hour; prepare applications: 40 hours; creating progress reports: 4 hours; producing the final technical report: 24 hours.

Total Estimated Number of Annual Burden Hours: 710 hours.

Respondent's Obligation: Response is voluntary but required to be eligible to receive funding.

Frequency of Collection: Program announcements are published annually.

Total Estimated Annual Non-hour Burden Cost: There are no non-hour cost burdens associated with this information collection.

An agency may not conduct or sponsor, nor is a person is required to respond to, a collection of information unless it displays a currently valid OMB control number.

The authority for this action is the PRA (44 U.S.C. 3501 et seq.).

Stephen L. Slaughter,
Associate Program Coordinator for Landslide Hazards, Natural Hazards Mission Area, USGS.

[FR Doc. 2024-02589 Filed 2-7-24; 8:45 am]

BILLING CODE 4338-11-P